DEPARTMENT OF ENERGY

Federal Energy Regulatory Commission

Combined Notice of Filings

Take notice that the Commission has received the following Natural Gas Pipeline Rate and Refund Report filings:

Filings Instituting Proceedings

Docket Numbers: RP16-592-000.

Applicants: Columbia Gas Transmission, LLC.

Description: § 4(d) Rate Filing: OTRA Mechanism Extension to be effective 3/1/2016.

Filed Date: 2/8/16.

Accession Number: 20160208-5042.

Comments Due: 5 p.m. ET 2/22/16.

Docket Numbers: RP16-593-000.

Applicants: Equitrans, L.P.

Description: Compliance filing Notice Regarding Non-Jurisdictional Gathering Facilities (W-4088).

Filed Date: 2/8/16.

Accession Number: 20160208-5044.

Comments Due: 5 p.m. ET 2/22/16.

Docket Numbers: RP16-594-000.

Applicants: Guardian Pipeline, L.L.C.

Description: § 4(d) Rate Filing: Negotiated Rate PAL Agreement—Koch Energy Serv., LLC to be effective 2/6/2016.

Filed Date: 2/8/16.

Accession Number: 20160208-5146.

Comments Due: 5 p.m. ET 2/22/16.

Docket Numbers: RP16-595-000.

Applicants: Texas Eastern Transmission, LP.

Description: § 4(d) Rate Filing: Negotiated Rate eff 4-1-2016 for Macquarie 911328 to be effective 4/1/2016.

Filed Date: 2/9/16.

Accession Number: 20160209-5055.

Comments Due: 5 p.m. ET 2/22/16.

Docket Numbers: RP16-596-000.

Applicants: Texas Eastern Transmission, LP.

Description: § 4(d) Rate Filing: Feb2016 Deletion of Expired Statements of Negotiated Rates to be effective 3/11/2016.

Filed Date: 2/9/16.

Accession Number: 20160209-5075.

Comments Due: 5 p.m. ET 2/22/16.

Docket Numbers: RP16-597-000.

Applicants: Tallgrass Interstate Gas Transmission, L.

Description: Compliance filing Compliance with Order 587-W to be effective 4/1/2016.

Filed Date: 2/9/16.

Accession Number: 20160209-5158.

Comments Due: 5 p.m. ET 2/22/16.

Docket Numbers: RP16-598-000.

Applicants: Rockies Express Pipeline LLC.

Description: Compliance filing Compliance with Order No. 587-W to be effective 4/1/2016.

Filed Date: 2/9/16.

Accession Number: 20160209-5161.

Comments Due: 5 p.m. ET 2/22/16.

Docket Numbers: RP16-599-000.

Applicants: Trailblazer Pipeline Company LLC.

Description: Compliance filing Order No. 587-W to be effective 4/1/2016.

Filed Date: 2/9/16.

Accession Number: 20160209-5199.

Comments Due: 5 p.m. ET 2/22/16.

Docket Numbers: RP16-600-000.

Applicants: Guardian Pipeline, L.L.C.

Description: § 4(d) Rate Filing: Negotiated Rate PAL Agreements—NJR Energy & Exelon to be effective 3/1/2016.

Filed Date: 2/9/16.

Accession Number: 20160209-5237.

Comments Due: 5 p.m. ET 2/22/16.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP16-323-001.

Applicants: Kern River Gas Transmission Company.

Description: Compliance filing 2016 Meter Modification Compliance to be effective 2/1/2016.

Filed Date: 2/9/16.

Accession Number: 20160209-5035.

Comments Due: 5 p.m. ET 2/22/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 10, 2016.
Nathaniel J. Davis, Sr.,
Deputy Secretary.

[FR Doc. 2016-03322 Filed 2-17-16; 8:45 am]

BILLING CODE 6717-01-P